DEPARTMENT OF STATE

[Public Notice 6002]

60-Day Notice of Proposed Information Collection: Public Diplomacy Evaluation Office: Performance Measurement, Evaluation and Public Diplomacy Program Surveys, OMB Control No. 1405-0158

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Public Diplomacy Evaluation Office: Performance Measurement, Evaluation and Public Diplomacy Program Surveys.

• OMB Control Number: 1405-0158.

• Type of Request: Revision of a Currently Approved Collection.

• Originating Office: Public Diplomacy Evaluation Office (PDEO).

• Form Number: None.

• Respondents: Respondents of program assessments and/or program monitoring of public diplomacy activities under the collection may include program applicants, participants, alumni, administrators, and hosts or grantee organizations involved in the programs that PDEO is assessing or evaluating.

• Estimated Number of Respondents: 25,131.

• Estimated Number of Responses: 25,131.

• Average Hours per Response: 30 minutes.

• Total Estimated Burden: 12,565 hours.

• Frequency: On occasion.

• Obligation to Respond: Voluntary.

DATES: The Department will accept comments from the public up to 60 days from December 6, 2007.

ADDRESSES: You may submit comments by any of the following methods:

• E-mail: CrowleyML@state.gov.

• Mail (paper, disk, or CD-ROM submissions): Melinda L. Crowley, U.S. Department of State, Public Diplomacy Evaluation Office (PDEO), 301 4th Street, SW., Room 848 (SA-44), Washington, DC 20547

• Fax: 202-203-7143.

You must include the DS form number (if applicable), information collection title, and OMB control number in any correspondence.

FOR FURTHER INFORMATION CONTACT: Direct requests for additional information regarding the collection listed in this notice, including requests for copies of the proposed information collection and supporting documents, to Melinda L. Crowley, U.S. Department of State, Public Diplomacy Evaluation Office (PDEO), 301 4th Street, SW., Room 848 (SA-44), Washington, DC 20547, who may be reached on 202-203-7136 or at CrowleyML@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The information collection allows PDEO the ability to regularly collect necessary data from program participants. The performance measurement and evaluation data obtained from program participants allows PDEO to better assess and improve the DOS exchange and public diplomacy programs, while complying with the reporting requirements mandated by Congress and the Office of Management and Budget. These programs assist the Department of State's mission to promote a balanced and accurate view of the United States and build world partnerships.

Methodology

Data captured through this information collection will be derived from respondents' electronic surveys, personal interviews and/or focus groups. Respondents include program applicants, participants, alumni, administrators, hosts and grantee organizations involved in the programs that PDEO is assessing or evaluating.

Dated: November 15, 2007.
Rick Ruth,
Executive Director, Public Diplomacy Evaluation Office, Department of State.

[FR Doc. 07-5967 Filed 12-5-07; 8:45 am]

BILLING CODE 4710-11-P